DEPARTMENT OF AGRICULTURE

Submission for OMB Review; Comment Request

July 14, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received by August 19, 2015. Copies of the submission(s) may be obtained by calling (202) 720-8958 or (202) 720-8681.

An agency may not conduct or sponsor a collection of information unless the collection of information displays a currently valid OMB control number and the agency informs potential persons who are to respond to the collection of information that such persons are not required to respond to the collection of information unless it displays a currently valid OMB control number.

Office of the Chief Financial Officer

Title: Suspension and Debarment and Drug-Free Workplace Certifications.

OMB Control Number: 0505—New.

Summary of Collection: Suspension and debarment is a discretionary or statutory administrative action taken by Federal agencies to protect the government by excluding person and entities that are not presently responsible from participating in Federal programs or activities. The information will be collected by USDA Federal financial assistance agencies as certifying information concerning applicant suitability in compliance with Federal Suspension and Debarment and Drug-Free Work Place regulations, as defined by 2 CFR parts 180, 417 and Public Law 100-690, Title V, Subtitle D; 41 U.S.C., 8101 et seq., 2 CFR parts 182 and 421.

Need and Use of the Information: The information will be collected using the following Forms: AD-1047, Certification Regarding Debarment, Suspension, and Other Responsibility Matters Primary Covered Transaction; AD-1048, Certification Regarding Debarment, Suspension, Ineligibility and Voluntary Exclusion Lower Tier Covered Transactions; AD-1049, Certification Regarding Drug-Free Workplace Requirements (Grants) Alternative I—For Grantees Other than Individuals; AD-1050, Certification Regarding Drug-Free Workplace Requirements (Grants) Alternative II—For Grantees Who Are Individuals; AD-1052, Certification Regarding Drug-Free Workplace State and State Agencies, Federal Fiscal Year.

Description of Respondents: Individuals or household; Business or other for-profit; Not-for-profit institutions; Federal Government; State, Local or Tribal Government.

Number of Respondents: 1.

Frequency of Responses: Reporting: One time.

Total Burden Hours: 1.

Ruth Brown,
Departmental Information Collection Clearance Officer.

[FR Doc. 2015-17671 Filed 7-17-15; 8:45 am]

BILLING CODE 3410-KS-P